DEPARTMENT OF LABOR

Employment and Training Administration

[TA-W-39, 749, TA-W-39, 749A, and TA-W-39, 749B]

BHP Copper, Inc, Pinto Valley, Miami, AZ; BHP Copper, Inc., Tucson/San Manuel Operations, Tucson/San Manuel, AZ; BHP Copper, Inc., Robinson Operations, Ely, NV; Amended Certification Regarding Eligibility To Apply for Worker Adjustment Assistance

In accordance with section 223 of the Trade Act of 1974 (19 USC 2273) the Department of Labor issued a Notice of Certification Regarding Eligibility to Apply for Worker Adjustment Assistance on March 25, 2002, applicable to workers of BHP Copper, Inc., Pinto Valley, Miami, Arizona. The notice was published in the Federal Register on April 5, 2002 (67 FR 16441).

At the request of the company, the Department reviewed the certification for workers of the subject firm. The company reports that worker separations occurred at the Tucson/San Manuel Arizona Operations and the Robinson Operations, Ely, Nevada location of BHP Copper, Inc.

Workers at the Tucson/San Manuel operation were engaged in the production of copper cathode until all plant production ceased in March, 2002. Workers at the Robinson operations were retained after all plant production ceased in 1999 to maintain the operating equipment and to facilitate the closing of the operation. Workers separated at the Robinson facility were previously certified for TAA in August, 1999 (TA-W-36,531A).

Based on these findings, the Department is amending the certification to include workers of the Tucson/San Manuel Operations and Robinson Operations, Ely, Nevada locations of BHP Copper, Inc.

The intent of the Department's certification is to include all workers of BHP Copper, Inc. who were adversely affected by increased imports.

The amended notice applicable to TA-W-39, 749 is hereby issued as follows:

All workers of BHP Copper, Inc., Pinto Valley, Miami, Arizona (TA-W-39,749), BHP Copper, Inc., Tucson/San Manuel Operations, Tucson/San Manuel, Arizona (TA-W-39,749A) and BHP Copper, Inc., Robinson Operations, Ely, Nevada (TA-W-39,749B) who became totally or partially separated from employment on or after July 11, 2000, through March 25, 2004, are eligible to apply for adjustment assistance under section 223 of the Trade Act of 1974.

Signed at Washington, DC, this 8th day of August, 2002.
Edward A. Tomchick,
Division, Division of Trade Adjustment Assistance.

[FR Doc. 02-21093 Filed 8-19-02; 8:45 am]

BILLING CODE 4510-30-P